Proclamation 7600 of October 1, 2002

National Disability Employment Awareness Month, 2002

By the President of the United States of America

A Proclamation

All of our citizens should have the opportunity to live and work with dignity and freedom. Every October, we observe National Disability Employment Awareness Month, to recognize the talents, skills, and dedication of disabled Americans who are a vital part of our workforce. During this month, we reaffirm our commitment to ensuring that people with disabilities who want to work can receive the training they need to achieve their goal.

This year marks the 12th anniversary of the Americans with Disabilities Act of 1990 (ADA). The ADA has allowed disabled persons to participate more fully in our society; and it has opened doors for countless Americans by removing barriers, improving employment opportunities, expanding government services, and regulating public accommodations, transportation, and telecommunications. Much work remains to be done; for many individuals with disabilities still find it difficult to pursue an education, obtain a job, or own a home.

My Administration remains committed to helping America's more than 50 million disabled persons to obtain meaningful work and to achieve the ADA's promise of equality of opportunity, independent living, and economic self-sufficiency. Last year, I announced my New Freedom Initiative to promote these goals. It is a comprehensive plan that fosters the full participation of people with disabilities in all aspects of American life. This initiative provides increased access to innovative assistive technologies, expands educational options, increases access to gainful employment, and promotes full access to community life.

My Administration continues to enforce the ADA and is working with employers to build partnerships that support creative job accommodations and provide all Americans with meaningful and successful careers. Breaking down barriers requires this kind of cooperative, sustained, and consistent effort. We must continue to work for an America where all individuals are respected for who they are, celebrated for their abilities, and encouraged to realize their full potential and achieve their dreams.

By joint resolution approved August 11, 1945, as amended (36 U.S.C. 121), the Congress has, each year since 1945, called upon this Nation to recognize the contributions that workers with disabilities have made, and requested the President to issue a proclamation calling for appropriate ceremonies and activities.

NOW, THEREFORE, I, GEORGE W. BUSH, President of the United States of America, do hereby proclaim October 2002 as National Disability Employment Awareness Month. I call upon all government leaders, labor leaders, and employers to collaborate to ensure the full inclusion of our Nation's persons with disabilities in the 21st century workforce.

IN WITNESS WHEREOF, I have hereunto set my hand this first day of October, in the year of our Lord two thousand two, and of the Independence of the United States of America the two hundred and twenty-seventh.

B

[FR Doc. 02-25467

Filed 10-3-02; 8:45 am]

Billing code 3195-01-P